DEPARTMENT OF JUSTICE

Drug Enforcement Administration

Agency Information Collection Activities: Proposed Collection; Comments Requested

ACTION: Notice of Information Collection Under Review; Extension of a currently approved collection; Application for Registration (DEA Form 225); Application for Registration Renewal (DEA Form 225a); and Affidavit for Chain Renewal (DEA Form 225B).

The Department of Justice, Drug Enforcement Administration has submitted the following information collection request for review and clearance in accordance with the Paperwork Reduction Act of 1995. Office of Management and Budget approval is being sought for the information collection listed below. This proposed information collection was previously published in the Federal Register on December 12, 2000, allowing for a 60-day public comment period.

The purpose of this notice is to allow an addtional 30 days for public comment until March 28, 2001. This process is conducted in accordance with 5 CFR 1320.10. Written comments and/or suggestions regarding the item(s) contained in this notice, especially regarding the estimated public burden and associated response time, should be directed to the Office of Management and Budget, Office of Information and Regulatory Affairs, Attention: Department of Justice Desk Officer, Washington, DC 20503. Comments may also be submitted to the Department of Justice (DOJ), Justice Management Division, Information Management and Security Staff, Attention: Department Clearance Officer, Suite 1220, 1331 Pennsylvania Avenue NW., Washington, DC 20530.

Written comments and/or suggestions from the public and affected agencies concerning the proposed collection of information should address one or more of the following four points:

1. Evaluate whether the proposed collection of information is necessary for the proper performance of the function of the agency, including whether the information will have practical utility.

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of This Information

1. Type of information collection: Extension of a currently approved collection.

2. The title of the form/collection: Application for Registration (DEA Form 225); Application for Registration Renewal (DEA Form 225a); and Affidavit for Chain Renewal (DEA Form 225B).

3. The agency form number, if any, and the applicable component of the Department sponsoring the collection: Form Numbers: DEA Form 225, DEA Form 225a, and DEA Form 225B. Applicable component of the Department sponsoring the collection: Office of Diversion Control, Drug Enforcement Administration, U.S. Department of Justice.

4. Affected public who will be asked or required to respond, as well as a brief abstract: Primary: Business or other for-profit. Other: Individuals and household, not-for-profit institutions, and State, Local or Tribal Government. Abstract: The Controlled Substances Act requires all firms and individuals who manufacture, distribute, import, export, conduct research or dispense controlled substances to register with DEA. Registration provides a closed system of distribution to control the flow of controlled substances through the distribution chain. A revision made to the subject forms requires the respondent to submit their Tax Identification Number or Social Security Number as required by the Debt Collection Improvement Act of 1996 (PL 104-134).

5. An estimate of the total number of respondents and the amount of time estimated for an average respondent to respond/reply: Regarding DEA Form 225 and 225a: 9,800 respondents, .5 hours per response. A respondent will take an estimate of 30 minutes to complete a DEA Form 225 or DEA Form 225a. Regarding DEA 225B: 7 respondents, 1 hour per response. A respondent will take an estimate of 1 hour each year to complete a DEA Form 225B.

6. An estimate of the total public burden (in hours) associated with the collection: 4,907 annual burden hours.

Public comments on this proposed information collection are strongly encouraged. If additional information is required contact: Mr. Robert B. Briggs, Clearance Officer, United States Department of Justice, Information Management and Security Staff, Justice Management Division, Suite 1220, National Place, 1331 Pennsylvania Avenue, NW., Washington, DC 20530.

Dated: February 20, 2001.
Robert B. Briggs,
Department Clearance Officer, Department of Justice.

[FR Doc. 01-4607 Filed 2-23-01; 8:45 am]

BILLING CODE 4410-09-M